FEDERAL COMMUNICATIONS COMMISSION

Public Information Collections Approved by Office of Management and Budget

July 31, 2000.

The Federal Communications Commission (FCC) has received Office of Management and Budget (OMB) approval for the following public information collections pursuant to the Paperwork Reduction Act of 1995, Public Law 104-13. An agency may not conduct or sponsor and a person is not required to respond to a collection of information unless it displays a currently valid control number. For further information contact Shoko B. Hair, Federal Communications Commission, (202) 418-1379.

Federal Communications Commission

OMB Control No.: 3060-0748.

Expiration Date: 07/31/2003.

Title: Disclosure Requirements for Information Services Provided Through Toll-Free Numbers, 47 CFR Section 64.1504.

Form No.: N/A.

Respondents: Business or other for-profit.

Estimated Annual Burden: 3,750 respondents; 2.66 hours per response (avg.).; 10,500 total annual burden hours.

Estimated Annual Reporting and Recordkeeping Cost Burden: $0.

Frequency of Response: On occasion; Third Party Disclosure.

Description: Section 228 of the Communications Act of 1934, as amended, establishes federal requirements governing common carriers' transmission of and billing and collection for interstate pay-per-call and other information services. 47 CFR Section 64.1504 imposes disclosure requirements on entities that use toll-free numbers to provide information services. Common carriers must prohibit the use of toll-free numbers in a manner that would result in the calling party being charged for information conveyed during the call, unless the calling party: (1) Has executed a written agreement that specifies the material terms and conditions under which the information is provided or (2) pays for the information by means of a credit, prepaid, debit, charge, or calling card and the information service provider includes in response to each call an introductory message disclosing specified information detailing the cost and other terms and conditions for the service. The requirements are intended to ensure that callers to toll-free numbers are: (1) Informed if charges will be levied and (2) receive the information necessary to make an informed decision whether to purchase an information service. Obligation to respond: Mandatory.

OMB Control No.: 3060-0749.

Expiration Date: 07/31/2003.

Title: 47 CFR Section 64.1509—Disclosure and Dissemination of Pay-Per Call Information.

Form No.: N/A.

Respondents: Business or other for-profit.

Estimated Annual Burden: 25 respondents; 410 hours per response (avg.).; 10,250 total annual burden hours.

Estimated Annual Reporting and Recordkeeping Cost Burden: $0.

Frequency of Response: On occasion; Third Party Disclosure.

Description: Section 228 of the Communications Act of 1934, as amended, establishes federal requirements governing common carriers' transmission and billing and collection of interstate pay-per-call and other information services. 47 CFR Section 64.1509 imposes requirements on common carriers that assign telephone numbers to pay-per-call services. Common carriers that assign telephone numbers to pay-per-call services must disclose to all interested parties, upon request, a list of all assigned pay-per-call numbers. For each assigned number, carriers must also make available: (1) A description of the pay-per-call service; (2) the total cost per minute or other fees associated with the service; and (3) the service provider's name, business address, and telephone number. Carriers handling pay-per-call services must establish a toll-free number that consumers may call to receive information about pay-per-call services. The Commission requires carriers to provide statements of pay-per call rights and responsibilities to new telephone subscribers at the time service is established and to all subscribers annually. The requirements are intended to ensure that consumers understand their rights and responsibilities with respect to these services. Obligation to respond: Mandatory.

OMB Control No.: 3060-0752.

Expiration Date: 07/31/2003.

Title: Billing Disclosure Requirements for Pay-Per-Call and Other Information Services, 47 CFR Section 64.1510.

Form No.: N/A.

Respondents: Business or other for-profit.

Estimated Annual Burden: 1,350 respondents; 40 hours per response (avg.).; 54,000 total annual burden hours.

Estimated Annual Reporting and Recordkeeping Cost Burden: $0.

Frequency of Response: Annually; Third Party Disclosure.

Description: Section 228 of the Communications Act of 1934, as amended, establishes federal requirements governing common carrier's transmission and billing and collection of interstate pay-per-call and other information services. Under 47 CFR Section 64.1510, telephone bills containing charges for interstate pay-per-call and other information services must include information detailing consumers' rights and responsibilities with respect to these charges. Telephone bills carrying pay-per-call charges must include a consumer notification stating that: (1) The charges are for non-communication services; (2) local and long distance telephone services may not be disconnected for failure to pay-per-call charges; (3) pay-per-call (900 number) blocking is available upon request and (4) access to pay-per-call services may be involuntarily blocked for failure to pay-per-call services. In addition, each call billed must show the type of service, the amount of the charges, and the date, time and duration of the call. The bill must display a toll-free number which subscribers may call to obtain information about pay-per-call services. Similar billing disclosure requirements apply to charges for information services either billed to subscribers on a collect basis or accessed by subscribers through a toll-free number. The requirements are intended to ensure that telephone subscribers billed for pay-per-call or other information services are able to understand the charges levied and are informed of their rights and responsibilities with respect to payment of such charges. Obligation to respond: Mandatory.

OMB Control No.: 3060-0810.

Expiration Date: 01/31/2001.

Title: Procedures for Designation of Eligible Telecommunications Carriers Pursuant to Section 214(e)(6) of the Communications Act of 1934, as amended.

Form No.: N/A.

Respondents: Business or other for-profit.

Estimated Annual Burden: 120 respondents; 51.66 hours per response (avg.); 6,200 total annual burden hours.

Estimated Annual Reporting and Recordkeeping Cost Burden: $0.

Frequency of Response: On occasion; Third Party Disclosure.

Description: 47 U.S.C. Section 214(e)(6) states that a telecommunications carrier that is not subject to the jurisdiction of a state may request that the Commission determine whether it is eligible. The Commission must evaluate whether telecommunications carriers requesting such designation pursuant to the Commission's procedures meet the eligibility criteria set forth in the Act. Carriers seeking designation from the Commission pursuant to section 214(e)(6) must demonstrate that they fulfill the requirements of section 214(e)(1). To do so, carriers seeking designation from the Commission must provide a petition containing the information specified in the Commission's “Procedures for FCC Designation of Eligible Telecommunications Carriers Pursuant to Section 214(e)(6).” In addition, under the Commission's recent Unserved Areas Order, CC Docket No. 96-45, released June 30, 2000, carriers seeking designation for service provided on non-tribal lands must provide an affirmative statement from a court of competent jurisdiction or the state commission that the state lacks jurisdiction over the carrier. A carrier seeking a designation of eligibility to receive federal universal service support for telecommunications service provided on tribal lands may petition the Commission for designation under section 214(e)(6), without first seeking designation from the appropriate state commission. The petitioner must set forth in its petition the basis for its assertion that it is not subject to the state commission's jurisdiction, and bears the burden of proving that assertion. The petitioner must provide copies of its petition to the appropriate state commission at the time of filing with the Commission. Carriers seeking an eligibility designation from this Commission for the provision of service on tribal lands should provide fact-specific support demonstrating that the carrier is not subject to the state commission's jurisdiction for the provision of service on tribal lands. Such support should include any relevant case law, statutes, and treaties. Petitioners seeking an eligibility designation under section 214(e)(6) for service provided on tribal lands must accurately describe the specific geographic areas they wish to service, and must demonstrate that such areas satisfy the definition of tribal lands. The Commission will use the information collected to determine whether the telecommunications carriers providing the data are eligible to receive universal service support. Obligation to respond: Mandatory.

OMB Control No.: 3060-0774.

Expiration Date: 01/31/2001.

Title: Federal-State Joint Board on Universal Service, CC Docket No. 96-45 (47 CFR 54).

Form No.: N/A.

Respondents: Business or other for-profit.

Estimated Annual Burden: 5,735,638 respondents; .34 hours per response (avg.); 1,984,119 total annual burden hours.

Estimated Annual Reporting and Recordkeeping Cost Burden: $0.

Frequency of Response: On occasion; Quarterly; Annually; Recordkeeping; Third Party Disclosure.

Description: Congress directed the Commission to implement a new set of universal service support mechanisms that are explicit and sufficient to advance the universal service principles enumerated in 47 U.S.C. Section 254 and other such principles as the Commission believes are necessary and appropriate for the protection of the public interest, convenience and necessity, and are consistent with the Act. Part 54 promulgates the rules and requirements to preserve and advance universal service. In the Unserved Areas Order, CC Docket No. 96-45, released June 30, 2000, the Commission amended its universal service rules and provided additional, targeted support under the Commission's low-income programs to create financial incentives for eligible telecommunications carriers to serve, and deploy telecommunications facilities, in areas that previously may have been regarded as high risk and unprofitable. (a) Projected Requirements for Low-Income Universal Service to be Filed No Later Than September 1, 2000 and Certifications Required by 47 CFR 54.403—The Commission has decided to give carriers the option of providing additional information about their projected requirements for low-income universal service support prior to the deadline for implementation of the Commission's enhancements to low-income support for tribal lands. Such additional information would supplement the information carriers already provided periodically about the amount of revenues they have foregone in the provision of service to qualifying low-income consumers, under 47 CFR sections 54.407(c) and 54.413(b). Prior to the rules adopted in the Unserved Areas Order, carriers could only obtain second-tier Lifeline support if they first obtained state approval of a corresponding rate reduction. Carriers could also only obtain third-tier support if state matching funds were provided. These requirements protected the ability of states to monitor and regulate the intrastate rates of Lifeline customers, and the incentive for states and carriers to provide local funds towards the advancement and preservation of universal service. In order to reduce burdensome administrative requirements on carriers not subject to state rate regulation while preserving the goals served by the current requirements of state approval for second-tier support and state matching funds for third-tier support, the Commission has removed the existing requirements for the receipt of second and third-tier Lifeline support, and substituted a certification by carriers that they pass through the full amount of any second, third, or fourth tier support they receive to qualifying low income subscribers, and that they have secured any non-federal regulatory approvals necessary to implement the required rate reduction. (No. of respondents: 2,414; hours per response: 8 hours; total annual burden: 19,312). (b) Certifications and Notifications of Low-Income Consumers Living on Tribal Lands, 47 CFR Sections 54.409(c) and 54.415. In order to allow low-income support to reach low-income consumers living on tribal lands in states that do not provide state universal service support for low-income consumers, carriers must now obtain certifications from low-income consumers of their receipt of benefits from a broader list of federal assistance programs, including assistance programs in which members of trial communities are more likely to be participants. (No. of respondents: 170,187; hours per response: 20 minutes; total annual burden: 56,729 hours). (c) Lifeline Plans to Carriers Not Subject to State Jurisdiction, 47 CFR 54.401(d)—In order to enable carriers not subject to state jurisdiction, including carriers serving tribal communities, to file lifeline plans with the Administrator, under the rule changes adopted in the Unserved Areas Order, eligible telecommunications carriers not subject to state commission jurisdiction are also required to submit Lifeline plans to the Administrator. This will enhance the Administrator's abilities to oversee the receipt of Lifeline support by low-income consumers served by carriers not subject to state commission jurisdiction. (No. of respondents: 100; hours per response: 1 hour; total annual burden: 100 hours). (d) Carrier Publicizing of Lifeline and Link Up Services, 47 CFR Sections 54.405 and 54.411—The Unserved Areas Order implements the requirement in section 214(e)(1)(B) that eligible telecommunications carriers advertise the availability of supported services by requiring carriers to publicize the availability of Lifeline and Link Up services in a manner reasonably designed to reach those likely to qualify for those services. (No. of respondents: 2,414; hours per response: 50 hours; total annual burden: 120,700 hours). Obligation to respond: Mandatory.

OMB Control No.: 3060-0233.

Expiration Date: 07/31/2003.

Title: Part 36—Separations.

Form No.: N/A.

Respondents: Business or other for-profit; State, Local or Tribal Government.

Estimated Annual Burden: 5,600 respondents; 28.05 hours per response (avg.); 157,125 total annual burden hours.

Estimated Annual Reporting and Recordkeeping Cost Burden: $0.

Frequency of Response: On occasion; Quarterly; Annually; Third Party Disclosure.

Description: In the Communications Act of 1934, as amended by the Telecommunications Act of 1996 (1996 Act), Congress codified the Commission's historical policy of promoting universal service to ensure that consumers in all regions of the nation have access to telecommunications services. Specifically, in section 254 of the Act, Congress instructed the Commission, after consultation with the Federal-State Joint Board on Universal Service (Joint Board), to establish specific, predictable, and sufficient mechanisms to preserve and advance universal service. Based on the recommendations from the Joint Board in the Second Recommended Decision, and building on the framework the Commission set forth in the First Report and Order and the Seventh Report and Order, the Commission established in an Order adopted on October 21, 1999, a new federal high cost support mechanism that will be sufficient to enable non-rural carriers' rates for service supported by universal service to remain affordable and reasonably comparable in all regions of the nation. (a) 47 CFR Sections 36.611 and 36.612_In order to allow determination of the study areas that are entitled to an expense adjustment, and the wire centers that are entitled to support pursuant to 47 CFR Part 54, each incumbent local exchange carrier (LEC) must provide the National Exchange Carrier Association (NECA) with the information required by Section 36.611 for each of its study areas, with the exception of the information listed in subsection (h), which must be provided for each study area and, if applicable, for each wire center as that term is defined in 47 CFR Part 54. This information is to be filed with NECA by July 31st of each year, and must be updated pursuant to section 36.612. The information filed on July 31st of each year will be used in the jurisdictional allocations underlying the cost support data for the access charge tariffs to be filed the following October. An incumbent LEC is defined as a carrier that meets the definition of an “incumbent local exchange carrier” in section 51.5. See 47 Sections 36.611 and 36.612. In the Ninth Report and Order and Eighteenth Order on Reconsideration issued in CC Docket 96-45, the Commission adopted several amendments to the data reporting requirements to ensure that cost and loop count data submitted by non-rural carriers under Part 36 will conform with loop count data submitted under our Part 54 rules for forwarding looking support. To ensure that forward-looking support provided under Part 54 and interim hold-harmless support provided under Part 36 are based on data from the same reporting periods, and to ensure equitable, non-discriminatory, and competitively neutral treatment of incumbent LECs and competitive eligible telecommunications carriers, the Commission requires mandatory quarterly reporting for non-rural carriers under both Part 54 and Part 36 of its rules. See 47 CFR 36.612. (Quarterly filing remains voluntary for rural carriers). By allowing incumbent LECs and competitive eligible telecommunications carriers to obtain support for high-cost lines on a regular quarterly basis, our rules will facilitate portability of support among carriers. In addition, the quarterly filing requirement is consistent with USAC's quarterly submission of program demand projections, and should allow more accurate projections based on regular quarterly loop counts. Because the interim hold-harmless provision provides support based on the existing Part 36 support mechanism, which relies on book costs, non-rural incumbent LECS will be required to file cost data, in addition to loop-count data, in order to receive interim hold-harmless support. (No. of respondents: 1,431; hours per response: 22 hours; total annual burden: 125,928). (b) 47 CFR Sections 36.701-36.741—The Commission adopted the Joint Board's recommendations to implement federal lifeline programs designed to preserve universal telephone service. See 47 CFR Sections 36.701-36.741. State or local carriers must submit copies of their lifeline plans to demonstrate that their plans meet certain minimum federal guidelines to qualify for federal assistance. Section 36.721 requires state or local telephone companies who want to participate in the “Link-Up America” program to file data with the Commission demonstrating eligibility pursuant to the criteria contained in Section 36.721(a)(1)-(4) of the Commission's rules. Federal assistance will be provided to supplement the benefits provided under state or local telephone companies lifeline plans for qualified low income households to help defray the one time charges for commencement of telephone service. This program would offset one-half of the charges for commencing telephone service, up to $30 for qualifying households. This program also encourages local exchange carriers to offer deferred payment schedules for charges for commencement of telephone service by paying an LECs interest costs. (No. of respondents: 50; hours per response: 20 hours; total annual burden: 1,000 hours). (c) 47 CFR Section 36.731—This section requires local telephone companies participating in the lifeline programs to file information with NECA for each of their study areas, on a yearly basis, on June 30th. Information to be filed with NECA includes: estimate of the number of eligible households which will receive assistance under both parts of the “Link-Up America” programs; estimate of the average discount on service commencement to be provided to each subscriber; and estimate of the average deferred interest cost for each subscriber. Carriers must submit the foregoing information to the Commission, as well as to NECA for those study areas in which the additional interstate expense allocation is to be in effect for less than a full calendar year. See also 47 CFR Section 36.741. (No. of respondents: 1500; hours per response: 20 hours; total annual burden: 30,000 hours). (d) Proposal—In a NPRM issued in CC Docket No. 80-286, released 10/7/97, the Commission sought comment on a proposed rule allowing incumbent LECs to separate joint and common costs on an individual basis should be contingent on an ILECs showing that competition exists in the local markets for which they seek relaxed separations rules. (The Commission has not issued an order in this proceeding). (No. of respondents: 100; hours per response: 2; total annual burden: 200 hours). The requirements are necessary to implement the congressional mandate for universal service. The reporting requirements are necessary to verify that non-rural local exchange carriers are eligible to receive universal service support. Information filed with NECA pursuant to Section 36.611 is used in the jurisdictional allocations underlying the cost support data for the access charge tariffs every April. Without this information, NECA would not be able to prepare and file the necessary tariffs. Information submitted to the Commission pursuant to Section 36.721 is required to maintain the integrity of the Federal Lifeline Assistance Programs. Certification is necessary to ensure that the targeted group is the beneficiary of the program. The authorities for imposing the collections of information are found at: 47 U.S.C. 151, 154(i) and (j), 221(c) and 410(c). Obligation to respond: Required to obtain or retain benefits.

Public reporting burden for the collection of information is as noted above. Send comments regarding the burden estimate or any other aspect of the collections of information, including suggestions for reducing the burden to Performance Evaluation and Records Management, Washington, DC 20554.

Federal Communications Commission.
Magalie Roman Salas,
Secretary.

[FR Doc. 00-20103 Filed 8-8-00; 8:45 am]

BILLING CODE 6712-01-U